DEPARTMENT OF HEALTH AND HUMAN SERVICES

Office of the Secretary

Agency Information Collection Request. 60-Day Public Comment Request

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be received with 60-days, and directed to the OS Paperwork.

Proposed Project: SF-424 Individual—Revision—OMB No. 4040-0005—Grants.gov.

Abstract: This is a request for a revision of a previously approved collection. It is a simplified, alternative government-wide data set and application cover page for use by Federal grant-making agencies that award grants to individuals. The form is being revised with changes to the data field that collects the Social Security Number (SSN). The SSN field is an optional field. The current collection pre-fills the first five digits with “xxx-xx” and only collects the last four digits of the SSN. At OMB's request, we reviewed the usefulness of collection of a portion of the SSN, by polling the Agencies that used the SF-424 Individual form; however, it was determined that the partial SSN is not useful for processing the SF-424 Individual form by the Agencies. Therefore, no portion of the SSN will be collected as part of the electronic grant application process. Frequency of data collection varies by Federal agency.

Estimated Annualized Burden Table
Agency | Number of respondents | Number of responses per respondent | Average burden per response (in hours) | Total burden hours
NEA | 1,150 | 1 | 10/60 | 192
NEH | 2,593 | 1 | 30/60 | 1,297
USDA | 4,069 | 1 | 30/60 | 2,035
HHS | 600 | 1 | 30/60 | 300
Total |  |  |  | 3,824

Terry Nicolosi,
Office of the Secretary, Paperwork Reduction Act Reports Clearance Officer.

[FR Doc. E8-14430 Filed 6-25-08; 8:45 am]

BILLING CODE 4151-AE-P